DEPARTMENT OF ENERGY

FE Docket Nos. 12-16-NG; 12-19-NG; 12-20-LNG; 12-22-NG; 12-23-NG; 12-31-NG; 12-28-NG]

Atlantic Power Energy Services (US) LLC; White Eagle Trading, LLC; Morgan Stanley Capital Group Inc.; West Texas Gas, Inc.; National Fuel Resources, Inc.; Iberdrola Canada Energy Services, Ltd.; Enserco Energy, LLC; Notice of Orders Granting Authority To Import and Export Natural Gas and Liquefied Natural Gas During March 2012

AGENCY: Office of Fossil Energy, Department of Energy (DOE).

ACTION: Notice of orders.

SUMMARY: The Office of Fossil Energy (FE) of the Department of Energy gives notice that during March 2012, it issued Orders granting authority to import and export natural gas and liquefied natural gas. These Orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on April 19, 2012.
John A. Anderson,
Manager, Natural Gas Regulatory Activities, Office of Oil and Gas Global Security and Supply, Office of Fossil Energy.

Appendix

DOE/FE Orders Granting Import/Export Authorizations Issued in March 2012
Date issued | FE Docket No. | Authorization holder | Description of action
03/06/12 | 12-16-NG | Atlantic Power Energy Services (US) LLC | Order granting blanket authority to import/export natural gas from/to Canada and vacating Order No. 2762.
03/06/12 | 12-19-NG | White Eagle Trading, LLC. | Order granting blanket authority to export natural gas to Mexico.
03/14/12 | 12-20-LNG | Morgan Stanley Capital Group Inc | Order granting blanket authority to import LNG from various international sources by vessel.
03/14/12 | 12-22-NG | West Texas Gas, Inc. | Order granting blanket authority to export natural gas to Mexico.
03/14/12 | 12-23-NG | National Fuel Resources, Inc. | Order granting blanket authority to import/export natural gas from/to Canada.
03/27/12 | 12-31-NG | Iberdrola Canada Energy Services, Ltd | Order granting blanket authority to import/export natural gas from/to Canada.
03/30/12 | 12-28-NG | Enserco Energy, LLC. | Order granting blanket authority to import/export natural gas from/to Canada/Mexico and vacating Order No. 2773.

[FR Doc. 2012-10236 Filed 4-26-12; 8:45 am]

BILLING CODE 6450-01-P